DEPARTMENT OF HEALTH AND HUMAN SERVICES

Food and Drug Administration

[Docket No. FDA-2010-N-0001]

Third Annual Sentinel Initiative Public Workshop

AGENCY: Food and Drug Administration, HHS.

ACTION: Notice of public workshop.

The Food and Drug Administration (FDA) is announcing the following public workshop: Third Annual Sentinel Initiative Public Workshop. Hosted by the Engelberg Center for Health Care Reform at The Brookings Institution, this 1-day public workshop will bring together the stakeholder community for a productive discussion on a variety of topics in active medical product surveillance, including an update on Mini-Sentinel and related activities, near-term plans for FDA's Sentinel Initiative, and opportunities for coordination with other U.S. Department of Health and Human Services efforts that use distributed systems of automated health care data.

Date and Time: The public workshop will be held on January 12, 2011, from 8:30 a.m. to 4:30 p.m.

Location: The public workshop will be held at the Renaissance Dupont Hotel, 1143 New Hampshire Ave. NW., Washington, DC 20037.

Contact: Kayla Garvin, Center for Drug Evaluation and Research, Food and Drug Administration, 10903 New Hampshire Ave., Bldg. 51, rm. 6331, Silver Spring, MD 20993, 301-796-7578, e-mail: sentinelinitiative@fda.hhs.gov.

Registration: To attend the public workshop, please register at http://guest.cvent.com/d/hdq5r4/1Q. When registering, provide the following information: Your name, title, company or organization (if applicable), address, phone number, and e-mail address. There is no fee to register for the public workshop, but because seating is limited, registration will be on a first-come, first-served basis. A 1-hour lunch break is scheduled; however, food will not be provided. There are multiple restaurants within walking distance of the hotel where attendees can get food. If you need special accommodations due to a disability, please contact The Brookings Institution event coordinator at 202-797-4391 or e-mail: sentinelevent@brookings.edu at least 7 days in advance.

Meeting Materials: Please be advised that as soon as workshop materials are available, they will be accessible at The Brookings Institution events Web site at http://www.brookings.edu//health/events.

Dated: December 1, 2010.
Leslie Kux,
Acting Assistant Commissioner for Policy.

[FR Doc. 2010-30562 Filed 12-6-10; 8:45 am]

BILLING CODE 4160-01-P